DEPARTMENT OF ENERGY

Federal Energy Regulatory Commission

Combined Notice of Filings #1

Take notice that the Commission received the following electric corporate filings:

Docket Numbers: EC23-29-000.

Applicants: Brantley Farm Solar, LLC, Buckleberry Solar, LLC, Fox Creek Farm Solar, LLC, Innovative Solar 54, LLC, Innovative Solar 67, LLC.

Description: Brantley Farm Solar, LLC, et. al. submits Response to the February 3, 2023, Deficiency Letter.

Filed Date: 3/6/23.

Accession Number: 20230306-5188.

Comment Date: 5 p.m. ET 3/27/23.

Docket Numbers: EC23-59-000.

Applicants: FirstEnergy Corp., Metropolitan Edison Company, Pennsylvania Electric Company, Pennsylvania Power Company, West Penn Power Company, Keystone Appalachian Transmission Company, Ohio Edison Company, Mid-Atlantic Interstate Transmission, LLC, FirstEnergy Pennsylvania Electric Company, FirstEnergy Pennsylvania Holding Company LLC.

Description: Joint Application for Authorization Under Section 203 of the Federal Power Act of FirstEnergy Corp., et al.

Filed Date: 3/6/23.

Accession Number: 20230306-5202.

Comment Date: 5 p.m. ET 3/27/23.

Take notice that the Commission received the following electric rate filings:

Docket Numbers: ER23-646-001.

Applicants: Wagon Wheel Wind Project Holdings LLC.

Description: Tariff Amendment: Supplement to Market-Based Rate Application and Response to Deficiency Letter to be effective 5/7/2023.

Filed Date: 3/7/23.

Accession Number: 20230307-5039.

Comment Date: 5 p.m. ET 3/28/23.

Docket Numbers: ER23-647-001.

Applicants: Diversion Wind Energy Holdings LLC.

Description: Tariff Amendment: Supplement to Market-Based Rate Application and Response to Deficiency Letter to be effective 5/7/2023.

Filed Date: 3/7/23.

Accession Number: 20230307-5038.

Comment Date: 5 p.m. ET 3/28/23.

Docket Numbers: ER23-1253-000.

Applicants: White Tail Solar, LLC.

Description: Request for Limited and Prospective Tariff Waiver, et al. of White Tail Solar, LLC.

Filed Date: 3/2/23.

Accession Number: 20230302-5211.

Comment Date: 5 p.m. ET 3/23/23.

Docket Numbers: ER23-1255-000.

Applicants: Hecate Grid Clermont 1 LLC.

Description: Hecate Grid Clermont 1 LLC submits Limited Waiver Request of Sections 30.8.1 and 30.3.6 of Attachment X of NYISO OATT.

Filed Date: 3/3/23.

Accession Number: 20230303-5267.

Comment Date: 5 p.m. ET 3/13/23.

Docket Numbers: ER23-1256-000.

Applicants: Arizona Public Service Company.

Description: § 205(d) Rate Filing: Rate Schedule No. 315, ANPP Interconnection Agreement with Sonoran Solar Energy to be effective5/7/2023.

Filed Date: 3/7/23.

Accession Number: 20230307-5057.

Comment Date: 5 p.m. ET 3/28/23.

Docket Numbers: ER23-1257-000.

Applicants: Southern California Edison Company.

Description: § 205(d) Rate Filing: E&P LA, City of Vernon EAK048 Data Centers Load Project, RS531 to be effective 3/8/2023.

Filed Date: 3/7/23.

Accession Number: 20230307-5059.

Comment Date: 5 p.m. ET 3/28/23.

Docket Numbers: ER23-1258-000.

Applicants: Tri-State Generation and Transmission Association, Inc.

Description: § 205(d) Rate Filing: Amendment to Rate Schedule FERC No. 79 to be effective 5/8/2023.

Filed Date: 3/7/23.

Accession Number: 20230307-5075.

Comment Date: 5 p.m. ET 3/28/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2023.
Debbie-Anne A. Reese,
Deputy Secretary.

[FR Doc. 2023-05101 Filed 3-10-23; 8:45 am]

BILLING CODE 6717-01-P